DEPARTMENT OF ENERGY

Federal Energy Regulatory Commission

[Docket No. CP11-1-000]

Pine Prairie Energy Center, LLC; Notice of Application

October 15, 2010.

Take notice that on October 4, 2010, Pine Prairie Energy Center, LLC (Pine Prairie), 333 Clay Street, Suite 1500, Houston, TX 77002 filed an application in Docket No. CP11-1-000 pursuant to Section 7(c) of the Natural Gas Act (NGA) and Part 157 of the Commission's Regulations, for a certificate of public convenience and necessity to construct and operate its Phase III Expansion Project. Pine Prairie's Phase III Expansion Project would expand upon its existing storage facilities located in Evangeline Parish, Louisiana. Specifically, Pine Prairie would: (i) Construct two additional natural gas storage caverns, each having a working gas capacity of 12.0 billion cubic feet (Bcf), bringing the total number of caverns at the facility to seven; (ii) increase the working gas capacity of four of the five authorized natural gas storage caverns from 10 Bcf to 12 Bcf; (iii) restate the total capacity of Cavern No. 1 as being 10.2 Bcf to reflect an increase in the quantity of base gas to be maintained in that cavern from 1.6 Bcf to 2.2 Bcf; (iv) construct extensions of the existing storage facility piping in order to connect the proposed caverns to Pine Prairie's existing systems; (v) construct approximately 2.50 miles of 24, 20, and 16-inch diameter leaching pipeline looping and related enhancements; (vi) install two incremental electric drive compressor units totaling 11,500 horsepower; and (vii) increase the authorized maximum daily receipt and delivery capacities at interconnections with two interstate pipelines from 600 MMcf/day to 900 MMcf/day, all as described in more detail in the application which is on file with the Commission and open for public inspection.

Pine Prairie states that the Phase III Expansion Project will increase the Pine Prairie Energy Center's total working gas capacity to 80 Bcf, supported by base gas capacity of 22.6 Bcf (for a total storage capacity of 102.6 Bcf). Pine Prairie also requests a reaffirmation of the previously granted authorization to charge market-based rates for its storage and hub services.

This filing is available for review at the Commission in the Public Reference Room or may be viewed on the Commission's Web site at http://www.ferc.gov using the “e-Library” link. Enter the docket number excluding the last three digits in the docket number field to access the document. For assistance, contact FERC at FERCOnlineSupport@ferc.gov or call toll-free, (866) 208-3676, or for TTY, (202) 502-8659. Any questions concerning this Application may be directed to James F. Bowe, Jr., Dewey & LeBoeuf LLP, 1101 New York Avenue, NW., Washington, DC 20005, 202-346-8000 (phone) 202-346-8102 (fax), jbowe@dl.com.

Pursuant to section 157.9 of the Commission's rules, 18 CFR 157.9, within 90 days of this Notice the Commission staff will either complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Protests and interventions may be filed electronically via the Internet in lieu of paper; see, 18 CFR 385.2001(a)(1)(iii) and the instructions on the Commission's Web site under the “e-Filing” link. The Commission strongly encourages electronic filings.

Comment Date: November 5, 2010.

Kimberly D. Bose,
Secretary.

[FR Doc. 2010-26687 Filed 10-21-10; 8:45 am]

BILLING CODE 6717-01-P